ENVIRONMENTAL PROTECTION AGENCY

[WH-FRL-6982-3]

Meeting of the Arsenic Cost Working Group of the National Drinking Water Advisory Committee

AGENCY: Environmental Protection Agency (EPA).

ACTION: Notice.

SUMMARY: Under section 10(a)(2) of Public Law 92-423, “The Federal Advisory Committee Act,” notice is hereby given that a meeting of Arsenic Cost Working Group of the National Drinking Water Advisory Council established under the Safe Drinking Water Act, as amended (42 U.S.C. S300f et seq.), will be held on May 29 and May 30, 2001, from 8:30 a.m.-5:00 p.m. Eastern Time, at RESOLVE, 1255 23rd Street, NW., Suite 275, Washington, DC. The meeting is open to the public, but from past experience, seating will likely be limited.

Following the January 22, 2001 Federal Register promulgation of the arsenic rule, a number of concerns were raised to EPA by States, public water systems, and other stakeholders regarding the adequacy of science and the basis for national cost estimates underlying the rule. Because of the importance of the arsenic rule and the national debate surrounding it related to science and costs, EPA's Administrator publicly announced on March 20, 2001, that the Agency would take additional steps to reassess the scientific and cost issues associated with this rule and seek further public input on each of these important issues.

The purpose of this meeting is to bring nationally recognized technical experts together to review the cost of compliance estimates associated with the final arsenic in drinking water rule. The meeting is open to the public to observe. The working group members are meeting to: (1) Gather information; and (2) analyze relevant issues and facts. Statements from the public will be taken if time permits.

For more information, please contact Amit Kapadia, Acting Designated Federal Officer, Arsenic Cost Working Group, U.S. EPA, Office of Ground Water and Drinking Water, Mailcode 4607, 1200 Pennsylvania Avenue, NW., Washington, DC 20460. Phone number: (202)-260-1688. E-mail: kapadia.amit@epa.gov.

Dated: May 14, 2001.
Cynthia C. Dougherty,
Director, Office of Ground Water and Drinking Water.

[FR Doc. 01-12879 Filed 5-21-01; 8:45 am]

BILLING CODE 6560-50-P